DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, October 17, 2008, 2:30 p.m. to 3:30 p.m., National Institutes of Health, Two Democracy Plaza, 6707 Democracy Boulevard, Bethesda, MD 20892 which was published in the Federal Register on September 11, 2008, 73 FR 0177.

This meeting will be held October 22, 2008 instead of October 17, 2008. The meeting is closed to the public.

Dated: September 18, 2008.
Jennifer Spaeth,
Director, Office of Federal Advisory Committee Policy.

[FR Doc. E8-22604 Filed 9-25-08; 8:45 am]

BILLING CODE 4140-01-P